DEPARTMENT OF THE INTERIOR

Bureau of Reclamation

[RR02800000, 17XR0687ND, RX185279142060200]

Notice of Availability of the Final Environmental Impact Report/Final Environmental Impact Statement, Bay Delta Conservation Plan/California WaterFix

AGENCY: Bureau of Reclamation, Interior.

ACTION: Notice.

SUMMARY: The Bureau of Reclamation (Reclamation), in coordination with the California Department of Water Resources (DWR), has prepared a Final Environmental Impact Report/Final Environmental Impact Statement (Final EIR/EIS) for the Bay Delta Conservation Plan/California WaterFix pursuant to the California Environmental Quality Act (CEQA) and the National Environmental Policy Act (NEPA). The DWR proposes to implement a strategy to help restore ecological functions of the Delta and improve water supply reliability in the state of California. The Final EIR/EIS describes and analyzes potential environmental impacts of alternatives and identifies mitigation measures to help avoid or minimize impacts. The initial approach focused on a Habitat Conservation Plan, referred to as the Bay Delta Conservation Plan (BDCP), which included modifications to the State Water Project (SWP) and associated Conservation Measures. A new alternative strategy emerged after public input on the Draft EIR/EIS and was further refined in a Recirculated Draft EIR/Supplemental Draft EIS (RDEIR/SDEIS). This new strategy, the California Waterfix, focuses on a new water conveyance facility, habitat restoration measures necessary to minimize or avoid project effects, and a revised set of Conservation Measures. Endangered Species Act compliance would be achieved through Section 7 consultation.

DATES: No Federal or State decision on the proposed action will be made until at least 30 days after the U.S. Environmental Protection Agency (EPA) publishes a notice of availability of the Final EIR/EIS. After the 30-day period, the U.S. Department of the Interior will sign a Record of Decision and DWR will complete a Notice of Decision. The Record of Decision will state the actions that will be implemented by Reclamation and will discuss factors leading to the decisions.

ADDRESSES: Send requests for the Final EIR/EIS to Brook White, Bureau of Reclamation, Mid-Pacific Region, Bay-Delta Office, 801 I Street, Suite 140, Sacramento, CA 95814-2536, by calling (916) 414-2402, or emailing bwhite@usbr.gov.

To view or download the Final EIR/EIS, or for a list of locations to view hard-bound copies, go to www.baydeltaconservationplan.com.

FOR FURTHER INFORMATION CONTACT: Brook White, Bureau of Reclamation, (916) 414-2402, or by email at bwhite@usbr.gov.

SUPPLEMENTARY INFORMATION:

Background

On January 24, 2008, the U.S. Fish and Wildlife Service (USFWS) and the National Marine Fisheries Service (NMFS) issued a Notice of Intent (NOI) to prepare an EIS on the BDCP (73 FR 4178). The NOI was reissued on April 15, 2008, to include Reclamation as a co-lead Federal agency, update the status of the planning process, and provide revised information related to scoping meetings (73 FR 20326). The NOI dated April 15, 2008 identified scoping meeting locations and stated that written comments would be accepted until May 30, 2008. Additional information was later developed to describe the proposed BDCP, and subsequent scoping activities were initiated on February 13, 2009, with the publication of a revised NOI (74 FR 7257). The NOI identified scoping meeting locations and stated that written comments would be accepted until May 14, 2009.

In December 2010, the California Natural Resources Agency provided to the public a summary of the BDCP, its status, and a list of outstanding issues. In 2011 and 2012, public meetings continued in Sacramento, California, to update stakeholders and the public on elements of the Draft BDCP and EIR/EIS that were being developed.

On December 13, 2013, the Draft BDCP and associated Draft EIR/EIS were released to the public and a 120-day public comment period was opened through notification in the Federal Register (78 FR 75939). This notice described the proposed action and a reasonable range of alternatives. Twelve more public meetings were held in California in early 2014. In response to requests from the public, the comment period was extended for an additional 60 days and closed on June 13, 2014 (79 FR 17135). A Draft Implementing Agreement for the BDCP was also made available to the public on May 30, 2014, for a 60-day review and comment period, which closed on July 29, 2014. The comment period for the Draft EIR/EIS was also extended to the later date. All draft documents are available at www.BayDeltaConservationPlan.com.

As a result of considering comments on the Draft BDCP, Draft EIR/EIS, and Draft Implementing Agreement, Reclamation and DWR proposed three additional conveyance alternatives for analysis in a RDEIR/SDEIS released on July 10, 2015 (80 FR 39797). These new alternatives, 2D, 4A, and 5A, each contain fewer Conservation Measures than the alternatives circulated in the Draft EIS/EIR. Each of the new alternatives is not structured as a Habitat Conservation Plan/Natural Communities Conservation Plan but is structured to achieve compliance with the Endangered Species Act through consultation under Section 7 and with the California Endangered Species Act through the incidental take permit process under Section 2081(b) of the California Fish & Game Code. On July 10, 2015, the RDEIR/SDEIS was released to the public. Comments were due on August 31, 2015.

The RDEIR/SDEIS described and analyzed project modifications and refinement of the resource area analyses, alternatives, and actions. Reclamation became the Federal lead agency and NMFS, USFWS, and the U.S. Army Corps of Engineers, by virtue of their regulatory review requirements, became cooperating agencies for the RDEIR/SDEIS. All other entities identified as Cooperating Agencies through prior agreements retained their status for the RDEIR/SDEIS.

DWR identified Alternative 4A (known as the California WaterFix) as their proposed project and Reclamation has selected Alternative 4A as the National Environmental Policy Act preferred alternative. This alternative consists of a water conveyance facility with three intakes, habitat restoration measures necessary to minimize or avoid project effects, and modified versions of a subset of Conservation Measures from the BDCP. Alternative 4A is proposed to make physical and operational improvements to the SWP in the Delta necessary to restore and protect ecosystem health, water supplies of the SWP and CVP south-of-Delta, and water quality within a stable regulatory framework, consistent with statutory and contractual obligations. For further background information, see the December 13, 2013 Federal Register notice for the draft EIR/EIS (78 FR 75939).

The Final EIR/EIS contains responses to all substantive comments received on the Draft EIR/EIS and RDEIR/SDEIS, and reflects comments and any additional information received during the review period.

DWR's certification of the EIR and final decision-making under the CEQA will not occur until at least 30 days after EPA publishes a notice of availability of the Final EIR/EIS. This distribution of the Final EIR/EIS, including the written proposed responses to comments submitted by public agencies, is intended to satisfy the requirement to provide these responses to commenting public agencies at least 10 days prior to certification, consistent with CEQA Guidelines Section 15088(b). In addition, the end of the Federal Register notice period is intended by DWR to close the period by which any person may submit to DWR any grounds for noncompliance with CEQA, CA Public Resources Code Section 21177(a).

Public Disclosure

Before including your address, phone number, email address, or other personal identifying information in any correspondence, you should be aware that your entire correspondence—including your personal identifying information—may be made publicly available at any time. While you may ask us in your correspondence to withhold your personal identifying information from public review, we cannot guarantee that we will be able to do so.

Dated: December 27, 2016.
Camille Touton,
Acting Principal Deputy Assistant Secretary—Water and Science.

[FR Doc. 2016-31735 Filed 12-29-16; 8:45 am]

BILLING CODE 4332-90-P